ENVIRONMENTAL PROTECTION AGENCY

[EPA-HQ-OPPT-2017-0319; FRL-8770-01-OCSPP]

Agency Information Collection Activities; Proposed Renewal of an Existing Collection and Request for Comment; Asbestos-Containing Materials in Schools and Asbestos Model Accreditation Plans

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Asbestos-Containing Materials in Schools and Asbestos Model Accreditation Plans” and identified by EPA ICR No. 1365.12 and OMB Control No. 2070-0091, represents the renewal of an existing ICR that is scheduled to expire on May 31, 2022. Before submitting the ICR to OMB for review and approval under the PRA, EPA is soliciting comments on specific aspects of the proposed information collection that is summarized in this document. The ICR and accompanying material are available in the docket for public review and comment.

DATES: Comments must be received on or before November 1, 2021.

ADDRESSES: Submit your comments, identified by docket identification (ID) number EPA-HQ-OPPT-2017-0319, through http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is closed to visitors with limited exceptions. The staff continues to provide remote customer service via email, phone, and webform. For the latest status information on EPA/DC and docket access, visit https://www.epa.gov/dockets.

FOR FURTHER INFORMATION CONTACT: Jeffrey Putt, Existing Chemicals Risk Management Division (7408M), Office of Pollution Prevention and Toxics, Environmental Protection Agency, 1200 Pennsylvania Ave. NW, Washington, DC 20460-0001; telephone number: (202) 564-3703; email address: putt.jeffrey@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Asbestos-Containing Materials in Schools and Asbestos Model Accreditation Plans.

ICR number: EPA ICR No. 1365.12.

OMB control number: OMB Control No. 2070-0091.

ICR status: This ICR is currently scheduled to expire on May 31, 2022. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This Information Collection Request (ICR) addresses reporting and recordkeeping requirements found in the Asbestos-Containing Materials in Schools Rule (“AHERA Rule” a.k.a. “Schools Rule”) and the Asbestos Model Accreditation Plan (MAP) Rule.

Section 203 of the Asbestos Hazard Emergency Response Act (AHERA, 15 U.S.C. 2641-2656), authorizes the EPA Administrator to promulgate regulations “for determining whether asbestos-containing material is present in a school building under the authority of a local education agency (LEA).” Accordingly, the Agency developed regulations in 40 CFR part 763, subpart E to require LEAs to conduct inspections, develop management plans, and design or conduct response actions. Records must be maintained by all LEAs on inspections and response action activity, and current management plans must be provided upon request to EPA and state reviewers for examination.

Section 206 of AHERA, as amended, authorized the EPA Administrator, in consultation with affected organizations, to develop a model accreditation plan for states. The MAP provides accreditation criteria for persons who inspect for asbestos, develop management plans, and design or conduct response actions. States are required to adopt an accreditation plan at least as stringent as the EPA model plan. The accreditation requirements apply to persons who work in public and commercial buildings as well as schools. Accreditation of laboratories that analyze asbestos bulk samples and asbestos air samples is also required by AHERA.

This ICR estimates the paperwork burden for LEAs to inspect for asbestos and update management plans to protect all school building occupants from exposure to asbestos. This collection also estimates the paperwork burden for the accreditation of persons who inspect for asbestos, develop management plans, and design or conduct response actions and the paperwork burden associated with state accreditation programs.

Burden statement: The annual public reporting and recordkeeping burden for this collection of information is estimated to annual average 19.7 hours per response for schools, 140 hours per response for states, and 5.5 hours per response for training providers. Burden is defined in 5 CFR 1320.3(b).

The ICR, which is available in the docket along with other related materials, provides a detailed explanation of the collection activities and the burden estimate that is only briefly summarized here:

Respondents/Affected Entities: Entities potentially affected by this ICR are elementary and secondary school districts North American Industry Classification System ((NAICS) code 61111) and all states (NAICS code 92311). Additionally, under the Asbestos School Hazard Abatement Reauthorization Act (ASHARA), the Model Accreditation Plan affects training providers (NAICS code 61143) and State Asbestos Accreditation Programs (NAICS code 92312).

Respondent's obligation to respond: Mandatory, as per 40 CFR 763 subpart E.

Estimated total number of potential respondents: 138,945, which represents 137,621 local education agencies (LEAs), 1,268 training providers, and 56 States/Territories.

Frequency of response: On occasion.

Estimated total average number of responses for each respondent: 1.

Estimated total annual burden hours: 2,600,679 hours.

Estimated total annual costs: $106,858,522, which includes an estimated burden cost of $106,858,522 and an estimated cost of $0 for capital investment or maintenance and operational costs.

III. Are there changes in the estimates from the last approval?

There is an increase in total annual costs compared with that identified in the ICR currently approved by OMB. This is an increase of 45,766 hours (from 2,554,913 hours to 2,600,679 hours). The increase in the respondent burden and agency costs were caused by an increase in the hourly wages and a change in the methodology to calculate loaded wages (wages plus fringe benefits and overhead). This change is an adjustment.

In addition, OMB has requested that EPA move towards using the 18-question format for ICR Supporting Statements used by other federal agencies and departments and is based on the submission instructions established by OMB in 1995, replacing the alternate format developed by EPA and OMB prior to 1995. The Agency does not expect this change in format to result in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: August 26, 2021.
Michal Freedhoff,
Assistant Administrator, Office of Chemical Safety and Pollution Prevention.

[FR Doc. 2021-18835 Filed 8-31-21; 8:45 am]

BILLING CODE 6560-50-P